DEPARTMENT OF THE INTERIOR

Bureau of Land Management

[LLWO250000.L12200000.PM0000; OMB Control Number 1004-0119]

Agency Information Collection Activities; Permits for Recreation on Public Lands

AGENCY: Bureau of Land Management, Interior.

ACTION: Notice of information collection; request for comment.

SUMMARY: In accordance with the Paperwork Reduction Act of 1995, the Bureau of Land Management (BLM) is proposing to renew an information collection control number.

DATES: Interested persons are invited to submit comments on or before October 21, 2019.

ADDRESSES: Send your comments on this information collection request (ICR) by mail to Jean Sonneman. U.S. Department of the Interior, Bureau of Land Management, 1849 C Street NW, Room 2134LM, Washington, DC 20240; or by email to jsonneman@blm.gov. Please reference OMB Control Number 1004-0119 in the subject line of your comments.

FOR FURTHER INFORMATION CONTACT: To request additional information about this Information Collection Request (ICR), please contact David Ballenger by email at dballeng@blm.gov, or by telephone at 202-912-7642. Persons who use a telecommunication device for the deaf may call the Federal Relay Service at 1-800-877-8339, to leave a message for the above person.

SUPPLEMENTARY INFORMATION: In accordance with the Paperwork Reduction Act of 1995, the BLM provides the general public and other Federal agencies with an opportunity to comment on new, proposed, revised, and continuing collections of information. This helps to assess the impact of the BLM's information collection requirements and minimize the public's reporting burden. It also helps the public understand the BLM's information-collection requirements and provides the requested data in the desired format.

The BLM is soliciting comments on the proposed ICR that is described below. The BLM is especially interested in public comment addressing the following issues: (1) Is the collection necessary to the proper functions of the BLM; (2) Will this information be processed and used in a timely manner; (3) Is the estimate of burden accurate; (4) How might the BLM enhance the quality, utility, and clarity of the information to be collected; and (5) How might the BLM minimize the burden of this collection on the respondents, including through the use of information technology.

Comments that you submit in response to this notice are a matter of public record. The BLM will include or summarize each comment in its request to OMB to approve this ICR. Before including your address, phone number, email address, or other personal identifying information in your comment, you should be aware that your entire comment—including your personal identifying information—may be made publicly available at any time. While you can ask in your comment to the BLM to withhold your personal identifying information from public review, the BLM cannot guarantee that it will be able to do so.

The following information pertains to this request:

Abstract: Control number 1004-0119 allows the BLM to collect the required information to authorize commercial, competitive, and an organized group of recreational uses of public lands.

Title of Collection: Permits for Recreation on Public Lands (43 CFR part 2930).

OMB Control Number: 1004-0119.

Form: 2930-1, Special Recreation Permit Application.

Type of Review: Extension of a currently approved collection.

Description of Respondents: Applicants for recreational use of public lands managed by the BLM.

Estimated Number of Annual Respondents: 1,323.

Estimated Number of Annual Responses: 1,323.

Estimated Completion Time per Response: Varies from the 4 hours per response.

Total Estimated Number of Annual Burden Hours: 5,292.

Respondent's Obligation: Responses are required to obtain or retain a benefit.

Frequency of Collection: On occasion.

Total Estimated Annual Non-hour Burden Cost: Respondents are not required to purchase additional computer hardware or software to comply with this information collection. Individual states can charge an application fee to defray procession costs. The BLM estimated annual non-hour cost based on current application fees is $5,540.

The estimated annual burdens of this collection are itemized below:

A. Type of response | B. Number of responses | C. Hours per response | D. Total hours (column B × column C)
Special Recreation Permit Application (43 CFR part 2930) Form 2930-1 related non-form information | 1,323 | 4 | 5,292
Totals | 1,323 |  | 5,292

An agency may not conduct or sponsor and a person is not required to respond to a collection of information unless it displays a currently valid OMB control number. The authority for this action is the Paperwork Reduction Act of 1995 (44 U.S.C. 3501 et seq.)

Chandra Little,
Acting Information Collection Clearance Officer, Bureau of Land Management.

[FR Doc. 2019-18157 Filed 8-21-19; 8:45 am]

BILLING CODE 4310-84-P